DEPARTMENT OF THE INTERIOR

Bureau of Land Management

[ES-020-02-1610-DU]

Correction to Notice of Availability and Protest Period of the Proposed Planning Analysis for Arkansas and Louisiana

AGENCY: Bureau of Land Management, Department of the Interior.

ACTION: Correction to notice of availability and protest period.

SUMMARY: The Bureau of Land Management (BLM) published a notice in the Federal Register on November 30, 2001, regarding the availability of the Proposed Planning Analysis and Environmental Assessment (PA/EA) for public domain lands in Arkansas and Louisiana. The notice contains information that is incorrect. The PA/EA became available and the 30-day protest period began on December 14, 2001.

FOR FURTHER INFORMATION CONTACT: Judy Pace, Bureau of Land Management, 411 Briarwood Drive, Suite 404, Jackson, MS 39206; telephone (601) 977-5403.

Correction: In the Federal Register of November 30, 2001 (Volume 66, Number 231), in DOCID: fd30no01-11 on page 59811, under the DATES caption, change the protest ending date to January 13, 2002.

Dated: December 5, 2001.
Bruce Dawson,
Field Manager.

[FR Doc. 01-31747 Filed 12-26-01; 8:45 am]

BILLING CODE 4310-GJ-P